NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time: August 5, 2020; 12:30 p.m. to 4:45 p.m.; August 7, 2020; 12:30 p.m. to 4:30 p.m.

Place: NSF, 2415 Eisenhower Avenue, Alexandria, VA 22314 (Virtual attendance only).

To attend the virtual meeting, please send your request for the virtual meeting link to Kathleen McCloud at the following email address: kmccloud@nsf.gov.

Type of Meeting: Open.

Contact Person: Leighann Martin, National Science Foundation, 2415 Eisenhower Avenue, Room C 9000, Alexandria, Virginia 22314; Telephone: 703/292-4659.

Summary of Minutes: Minutes and meeting materials will be available on the MPS Advisory Committee website at http://www.nsf.gov/mps/advisory.jsp or can be obtained from the contact person listed above.

Purpose of Meeting: To provide advice, recommendations and counsel on major goals and policies pertaining to MPS programs and activities.

Agenda

Wednesday, August 5, 2020

• Call to Order and Official Opening of the Meeting—Sean Jones, Acting Assistant Director, MPS

• FACA and COI Briefing—Clark Cooper/Kathleen McCloud, MPS

• Approval of Prior Meeting Minutes—Catherine Hunt, MPSAC Chair

• UPDATE: MPS—Sean Jones, Acting Assistant Director, MPS

• CHE COV Report Presentation—Peter K. Dorhout, Kansas State University

• CHE COV Report discussion and vote on acceptance—Catherine Hunt, MPSAC Chair

• MPS and the Living World Subcommittee: Revised name, revised charge, short discussion—Linda Sapochak, Jennifer Lewis, Catherine Hunt

• Industries of the Future (IotF): Artificial Intelligence—Erwin Gianchandi, Deputy Assistant Director, CISE

• Preparation for Meeting with NSF Director and COO

• Closing remarks and adjourn for the day

Friday, August 7, 2020

• Call to Order and Official Opening of the 2nd Day—Sean Jones, Acting Assistant Director, MPS

• Industries of the Future (IotF): Quantum Information Science—Denise Caldwell

• Current Events (COVID-19 and other social issues affecting NSF): Presentation and discussion—Steve Meacham (OD/OIA), NSF Recovery Task Force

• Legislative and Public Affairs that Affect MPS: Presentation and discussion—Amanda Greenwell, Office of Legislative and Public Affairs

• The Budget Process: Presentation and discussion—Caitlyn Fife, Budget Division, Office of Budget, Finance, and Award Management (BFA/BD)

• Meeting and discussion with NSF Director and COO

• Adjourn—Sean Jones, Acting Assistant Director, MPS

Dated: July 2, 2020.
Crystal Robinson,
Committee Management Officer.

[FR Doc. 2020-14672 Filed 7-7-20; 8:45 am]

BILLING CODE 7555-01-P